DEPARTMENT OF TRANSPORTATION

Office of the Secretary

Notice of Applications for Certificates of Public Convenience and Necessity and Foreign Air Carrier Permits Filed Under Subpart B (Formerly Subpart Q) During the Week Ending May 25, 2001

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-9737.

Date Filed: May 22, 2001.

Due Date for Answers, Conforming Applications, or Motion to Modify Scope: June 12, 2001.

Description: Application of Vensecar Internacional C.A. pursuant to 49 U.S.C. 41302 and 14 CFR Parts 211 and 302 (subpart B), requesting a foreign air carrier permit, authorizing it to engage in scheduled foreign air transportation of property and mail between a point or points in Venezuela, on the one hand, and Miami, Florida, on the other hand, via the Netherlands West Indies, Jamaica and Cuba, as permitted by the U.S.-Venezuela Bilateral Air Transport Services Agreement.

Andrea M. Jenkins,
Federal Register Liaison.

[FR Doc. 01-14099 Filed 6-4-01; 8:45 am]

BILLING CODE 4910-62-P